DEPARTMENT OF COMMERCE

International Trade Administration

[A-570-088]

Steel Racks and Parts Thereof From the People's Republic of China: Postponement of Preliminary Determination in the Less-Than-Fair-Value Investigation

AGENCY: Enforcement and Compliance, International Trade Administration, Department of Commerce.

DATES: Applicable October 24, 2018.

FOR FURTHER INFORMATION CONTACT: Jonathan Hill at (202) 482-3518 or Patrick O'Connor at (202) 482-0989, AD/CVD Operations, Office IV, Enforcement and Compliance, International Trade Administration, U.S. Department of Commerce, 1401 Constitution Avenue NW, Washington, DC 20230.

SUPPLEMENTARY INFORMATION:

Background

On July 10, 2018, the Department of Commerce (Commerce) initiated a less-than-fair-value (LTFV) investigation of imports of steel racks and parts thereof (steel racks) from the People's Republic of China.¹ Currently, the preliminary determination is due no later than November 27, 2018.

¹ See Steel Racks from the People's Republic of China: Initiation of Less-Than-Fair-Value Investigation, 83 FR 33195 (July 17, 2018) (Initiation Notice).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, and determines that the investigation is extraordinarily complicated and that additional time is necessary to make a preliminary determination. Under 19 CFR 351.205(e), the petitioner must submit a request for postponement 25 days or more before the scheduled date of the preliminary determination and must state the reasons for the request. Commerce will grant the request unless it finds compelling reasons to deny the request.

On September 26, 2018, the petitioner ² in the steel racks LTFV investigation submitted a timely request that Commerce postpone the preliminary determination in the investigation to the maximum extent permitted under the statute.³ The petitioner requested the postponement to provide Commerce, and the petitioner, time to review questionnaire responses and identify deficiencies within those responses, and to provide time for Commerce to issue, and receive responses to, supplemental questionnaires prior to the preliminary determination.⁴

² The petitioner is the Coalition for Fair Rack Imports.

³ See Letter from the petitioner, “Steel Racks from the People's Republic of China: Request to Extend the Preliminary Determination,” dated September 26, 2018.

⁴ Id.

For the reasons stated above by the petitioner, and because there are no compelling reasons to deny the request, Commerce, in accordance with section 733(c)(1)(A) of the Act, is postponing the deadline for the preliminary determination in the steel racks LTFV investigation by 50 days (i.e., until 190 days after the date on which this investigation was initiated). As a result, Commerce will issue its preliminary determination in the steel racks LTFV investigation no later than January 16, 2019. In accordance with section 735(a)(1) of the Act and 19 CFR 351.210(b)(1), the deadline for the final determination in this investigation will continue to be 75 days after the date of the preliminary determination, unless postponed at a later date.

This notice is issued and published pursuant to section 733(c)(2) of the Act and 19 CFR 351.205(f)(1).

Dated: October 18, 2018.
Christian Marsh,
Deputy Assistant Secretary for Enforcement and Compliance.

[FR Doc. 2018-23223 Filed 10-23-18; 8:45 am]

BILLING CODE 3510-DS-P